DEPARTMENT OF ENERGY

Federal Energy Regulatory Commission

[Docket No. EL10-19-000]

Western Grid Development, LLC; Notice of Filing

December 2, 2009.

Take notice that on November 20, 2009, Western Grid Development, LLC (WGD) filed, pursuant to Rule 207 of the Commission's Rules of Practice and Procedure, 18 CFR 385.208, section 219 of the Federal Power Act, 16 U.S.C. 824s, Order No. 679,¹ and section 35.35 of the Commission's regulations, 18 CFR 35.35, a Petition for Declaratory Order: (1) Requesting the Commission to find that the Energy Storage Devices that will be used in WGD's proposed projects are properly classified as wholesale transmission facilities subject to the Commission's jurisdiction; (2) concluding that the WGD projects at locations where transmission reliability is at issue (WGD Projects) are entitled to incentive-based rate treatment pursuant to FERC regulations; (3) authorizing the specific rate incentives described herein for such WGD Projects; and (4) providing insight on whether the Commission perceives any barrier that could prevent the California Independent System Operator from considering the WGD solution on equal footing with other utility and non-utility proposed transmission alternatives to solve reliability problems.

¹ Promoting Transmission Investment Through Pricing Reform, Order No. 679, FERC Stats. & Regs. ¶ 31,222, order on reh'g, Order No. 679-A, FERC Stats. & Regs. ¶ 31,236 (2006), order on reh'g, 119 FERC ¶ 61,062 (2007) (Order 679 and Order No. 679-A, respectively).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on December 21, 2009.

Kimberly D. Bose,
Secretary.

[FR Doc. E9-29279 Filed 12-8-09; 8:45 am]

BILLING CODE 6717-01-P